DEPARTMENT OF COMMERCE

International Trade Administration

Application for Duty-Free Entry of Scientific Instrument

Pursuant to section 6(c) of the Educational, Scientific and Cultural Materials Importation Act of 1966 (Pub. L. 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 03-050.

Applicant: San Diego State University, 5500 Campanile Drive, San Diego, CA 92182-4614.

Instrument: Electron Microscope, Model Tecnai G² 12 TWIN.

Manufacturer: FEI Company, The Netherlands.

Intended Use: The instrument is intended to be used for research purposes in the following areas:

(1) Phytoflagellates of the Salton Sea.

(2) Structure and function of mitochondria.

(3) Analysis of contractile protein function through ultrastructural analysis.

(4) Environmental adaptions in fish.

(5) Stress-induced coral mortality.

(6) Visualization of recombinant intermediates by Cryo-TEM.

Minor research uses by students include:

(1) New thermoacidophilic organisms from hot springs.

(2) Signal transduction of the stress response in the heart.

(3) Molecular genetic analysis of neuromuscular system function in Drosophila melangoaste.

(4) Physiology of fish gill and their response to parasatism;

(5) Analysis and subcellular localization of putative sphingolipid signaling molecules in skeletal and cardiac muscle.

Application accepted by Commissioner of Customs: October 20, 2003.

Gerald A. Zerdy,
Program Manager, Statutory Import Programs Staff.

[FR Doc. 03-29307 Filed 11-21-03; 8:45 am]

BILLING CODE 3510-DS-M